SECURITIES AND EXCHANGE COMMISSION

[File No. 500-1]

mBeach Software, Inc.; Order of Suspension of Trading

July 18, 2014.

mBeach Software, Inc. (CIK No. 1465856) is a Florida corporation located in Tel Aviv, Israel with a class of securities registered with the Securities and Exchange Commission (“Commission”) pursuant to Section 12(g) of the Securities Exchange Act of 1934 (“Exchange Act”). mBeach Software, Inc. is delinquent in its periodic filings with the Commission, having not filed any periodic reports since it filed a Form 10-Q for the period ended September 30, 2010, which reported a net loss of $118,018 for the prior nine months. As of June 30, 2014, the company's stock (symbol “MBHS”) was quoted on OTC Link (previously, “Pink Sheets”) operated by OTC Markets Group, Inc., had seven market makers, and was eligible for the “piggyback” exception of Exchange Act Rule 15c2-11(f)(3).

It appears to the Commission that there is a lack of current and accurate information concerning the securities of mBeach Software, Inc. because it has not filed any periodic reports since its Form 10-Q for the period ended September 30, 2010. The Commission is of the opinion that the public interest and the protection of investors require a suspension of trading in the securities of mBeach Software, Inc.

Therefore, it is ordered, pursuant to Section 12(k) of the Exchange Act, that trading in the securities of mBeach Software, Inc. is suspended for the period from 9:30 a.m. EDT on July 18, 2014, through 11:59 p.m. EDT on July 31, 2014.

By the Commission.
Jill M. Peterson,
Assistant Secretary.

[FR Doc. 2014-17295 Filed 7-18-14; 4:15 pm]

BILLING CODE 8011-01-P